DEPARTMENT OF HEALTH AND HUMAN SERVICES

National Institutes of Health

National Institute of Dental & Craniofacial Research; Amended Notice of Meeting

Notice is hereby given of a change in the meeting of the National Advisory Dental and Craniofacial Research Council, June 23, 2008, 8:30 a.m. to June 23, 2008, 4:30 p.m., National Institutes of Health, Building 31, 31 Center Drive, Bethesda, MD 20892 which was published in the Federal Register on December 26, 2007, 72 FR 73037.

The meeting has moved to the Natcher Conference Center on the NIH Campus. The closed session will be in the morning and the open session in the afternoon. A scientific symposium will be held on June 24. The meeting is partially Closed to the public.

Dated: May 1, 2008.
Jennifer Spaeth,
Director, Office of Federal Advisory Committee Policy.

[FR Doc. E8-10317 Filed 5-8-08; 8:45 am]

BILLING CODE 4140-01-M